FEDERAL DEPOSIT INSURANCE CORPORATION

Agency Information Collection Activities: Submission for OMB Review; Comment Request

AGENCY: Federal Deposit Insurance Corporation.

ACTION: Notice of information collections to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the following information collection systems described below.

1. Type of Review: Renewal of a currently approved collection.

Title: Application for Consent to Exercise Trust Powers.

Form Number: 6200/09.

OMB Number: 3064-0025.

Annual Burden:

Estimated annual number of respondents: 18.

Estimated time per response: 14 applications—8 hours; 4 applications—24 hours.

Total annual burden hours: 208 hours.

Expiration Date of OMB Clearance: January 31, 2004.

SUPPLEMENTARY INFORMATION: Insured State nonmember banks submit applications to FDIC for consent to exercise trust powers. Applications are evaluated by FDIC to verify qualifications of bank management to administer a trust department and to ensure that bank's financial condition will not be jeopardized as a result of trust operations.

2. Type of Review: Renewal of a Currently Approved Collection.

Title: Appraisal Standards.

OMB Number: 3064-0103.

Annual Burden:

Estimated annual number of respondents: 5,346.

Estimated number of responses: 328,600.

Estimated time per response: 15 minutes.

Average annual burden hours: 82,150 hours.

Expiration Date of OMB Clearance: February 29, 2004.

SUPPLEMENTARY INFORMATION: FIRREA directs the FDIC to prescribe appropriate standards for the performance of real estate appraisals in connection with federally related transactions under its jurisdiction. The information collection activities attributable to 12 CFR part 323 are a direct consequence of the statutory requirements and the legislative intent.

DATES: Comments on these collections of information are welcome and should be submitted on or before January 20, 2004, to both the OMB reviewer and the FDIC contact listed below.

ADDRESSES: Information about this submission, including copies of the proposed collections of information, may be obtained by calling or writing the FDIC contact listed below.

• Mail: Leneta G. Gregorie, (202) 898-3719, Legal Division, Federal Deposit Insurance Corporation, 550 17th Street, NW., Washington, DC 20429.

Joseph F. Lackey, Jr., Office of Management and Budget, Office of Information and Regulatory Affairs, New Executive Office Building, Room 10236, Washington, DC 20503.

Dated: December 10, 2003.
Federal Deposit Insurance Corporation.
Robert E. Feldman,
Executive Secretary.

[FR Doc. E3-00555 Filed 12-17-03; 8:45 am]

BILLING CODE 6714-01-P